DEPARTMENT OF STATE

Delegation of Authority No. 120-6, Assistant Secretary for Administration

General Delegation

By virtue of the authority vested in me as Secretary of State by section 4 of the Act of May 26, 1949 (63 Stat. 111; 22 U.S.C. 2658), as amended, and by Title III of the Federal Property and Administrative Services Act of 1949 (63 Stat. 377, 393; 41 U.S.C. chapter 4), as amended, I hereby delegate to the Assistant Secretary of State for Administration the following authorities and functions:

Technical Provisions

1. The Assistant Secretary for Administration is authorized to exercise all duties, responsibilities and powers of the Secretary with respect to Department procurement.

2. The Assistant Secretary for Administration is hereby designated to act as Head of the Agency with respect to procurement. The Assistant Secretary for Administration shall:

a. Prescribe and publish the Department of State Acquisition Regulation (48 CFR chapter 6) and other directives pertaining to procurement including, but not limited to, those incorporated in 48 CFR chapter 6.

b. To the extent permitted by law, make all determinations and findings required by statute or regulation to be made by the Head of the Agency.

3. The authority delegated herein shall be exercised in accordance with the applicable limitations and requirements of the Federal Property and Administrative Services Act, as amended; the Federal Acquisition Regulation (48 CFR chapter 1); the applicable portions of the Federal Property Management Regulations (41 CFR chapter 101); as well as other relevant statutes and regulations.

4. The Assistant Secretary for Administration is authorized to redelegate to qualified employees of the Department any of the authority delegated under items 1 and 2.

5. The Assistant Secretary for Administration shall serve as Chief Acquisition Officer under section 16 of the Office of Federal Procurement Policy Act (41 U.S.C. 414), as amended by section 1421 of the Services Acquisition Reform Act (SARA), National Defense Authorization Act for Fiscal Year 2004, Title XIV, Pub. L. 108-136 (Nov. 24, 2003).

6. This delegation supplements Department of State Delegation No. DA1-120-4 (59 FR 38022) dated July 26, 1994.

Dated: February 21, 2004.
Colin L. Powell,
Secretary of State, Department of State.

[FR Doc. 04-4995 Filed 3-4-04; 8:45 am]

BILLING CODE 4710-10-P